DEPARTMENT OF AGRICULTURE

Agricultural Marketing Service

[Doc. No. AMS-TM-07-0032; TM-07-05]

Notice of Meeting of the National Organic Standards Board

AGENCY: Agricultural Marketing Service, USDA.

ACTION: Notice.

SUMMARY: In accordance with the Federal Advisory Committee Act, as amended, the Agricultural Marketing Service (AMS) is announcing a forthcoming meeting of the National Organic Standards Board (NOSB).

DATES: The meeting dates are Tuesday, March 27, 2007, 1 p.m. to 5 p.m.; Wednesday, March 28, 2007, 8 a.m. to 5 p.m.; and Thursday, March 29, 2007, 8 a.m. to 4 p.m. Requests from individuals and organizations wishing to make oral presentations at the meeting are due by the close of business on March 16, 2007.

ADDRESSES: The meeting will take place at The Washington Plaza Hotel located at Ten Thomas Circle, NW., Washington, DC 20005.

• Requests for copies of the NOSB meeting agenda, may be sent to Ms. Valerie Frances, Executive Director, NOSB, USDA-AMS-TMP-NOP, 1400 Independence Ave., SW., Room 4008-So., Ag Stop 0268, Washington, DC 20250-0268. The NOSB meeting agenda and proposed recommendations may also be viewed at www.ams.usda.gov/nop.

• Comments on proposed NOSB recommendations may be submitted in writing to Ms. Frances at either the postal address above or via the internet at www.regulations.gov only. The comments should identify Docket No. AMS-TM-07-0032; TM-07-05. It is our intention to have all comments to this notice whether they are submitted by mail or the internet available for viewing on the www.regulations.gov Web site.

• Requests to make an oral presentation at the meeting may also be sent to Ms. Valerie Frances at the postal address above, by e-mail at valerie.frances@usda.gov, via facsimile at (202) 205-7808, or phone at (202) 720-3252.

FOR FURTHER INFORMATION CONTACT: Valerie Frances, Executive Director, NOSB, National Organic Program (NOP), (202) 720-3252, or visit the NOP Web site at: http://www.ams.usda.gov/nop.

SUPPLEMENTARY INFORMATION: Section 2119 (7 U.S.C. 6518) of the Organic Foods Production Act of 1990 (OFPA), as amended (7 U.S.C. 6501 et seq.) requires the establishment of the NOSB. The purpose of the NOSB is to make recommendations about whether a substance should be allowed or prohibited in organic production or handling, to assist in the development of standards for substances to be used in organic production, and to advise the Secretary on other aspects of the implementation of the OFPA. The NOSB met for the first time in Washington, DC, in March 1992, and currently has six committees working on various aspects of the organic program. The committees are: Compliance, Accreditation, and Certification; Crops; Handling; Livestock; Materials; and Policy Development.

In August of 1994, the NOSB provided its initial recommendations for the NOP to the Secretary of Agriculture. Since that time, the NOSB has submitted 108 addenda to its recommendations and reviewed more than 272 substances for inclusion on the National List of Allowed and Prohibited Substances. The Department of Agriculture (USDA) published its final National Organic Program regulation in the Federal Register on December 21, 2000, (65 FR 80548). The rule became effective April 21, 2001.

In addition, the OFPA authorizes the National List of Allowed and Prohibited Substances and provides that no allowed or prohibited substance would remain on the National List for a period exceeding 5 years unless the exemption or prohibition is reviewed and recommended for renewal by the NOSB and adopted by the Secretary of Agriculture. This expiration is commonly referred to as sunset of the National List. The National List appears at 7 CFR Part 205, Subpart G.

The principal purposes of the NOSB meeting are to provide an opportunity for the NOSB to receive an update from the USDA/NOP and hear progress reports from NOSB committees regarding work plan items and proposed action items. The last meeting of the NOSB was held on October 17-19, 2006, in Arlington, VA.

At its last meeting, the Board concluded its first review of the 169 substances on the National List since October 2002 that were due to sunset October 2007. The Board recommended the renewal of 166 of the 169 exemptions and prohibitions on the National List (along with any restrictive annotations), and the removal of 3 exemptions from the National List. The sunset review process will now be on-going.

At this meeting, the Board will begin the sunset review process of 13 materials. There are 8 substances for use in crops and handling which were placed on the National List on November 3, 2003, and are scheduled to expire on November 3, 2008. There are 5 substances for use in handling which were placed on the National List on November 4, 2003, and are scheduled to expire on November 4, 2008. The sunset review process must be concluded no later than November 3 and 4, 2008, respectively. If renewal is not concluded by those dates, the use or prohibition of these 13 materials will no longer be in compliance with the National Organic Program.

The Policy Development Committee will present recommendations regarding revisions to the NOSB Policy and Procedures Manual and a guide for new NOSB members. The Policy Development, Crops and Livestock Committees will jointly discuss their work towards guidance for the certification of organic research sites.

The Crops Committee will present recommendations on Ammonium salts of fatty acids and Pelargonic acid, materials petitioned for use on § 205.601. The Committee will begin their sunset review of Copper sulfate, Ozone gas, and Peracetic acid, with their respective annotations and limitations, and Environmental Protection Agency (EPA) List 3—Inerts of unknown toxicity—for use only in passive pheromone dispensers. These National List material exemptions are due to expire on November 3, 2008, from § 205.601. The Committee will also begin their sunset review on the exemption for Calcium chloride for use as a brine-sourced foliar spray. Calcium chloride is otherwise considered a prohibited natural substance on § 205.602 and is also due to expire on November 3, 2008.

The Materials and Handling Committees will discuss the materials review process and provide an update regarding their efforts to clarify the definitions of materials on the National List in §§ sections 205.605(a), (b) and § 205.606.

The Handling Committee will present recommendations on fifty-three materials petitioned for consideration for inclusion on either § 205.605 or § 205.606 for use in organic products: Carbon dioxide, carrot fiber, celery powder, dillweed oil, fish gelatin, fish oils, fructooligosaccharides (FOS), frozen galangal, gellan gum, hops, inulin, chipotle peppers, Koji mold, lemongrass, milled flax seed, natamycin, natural casings, non-fat dry milk, pectins (LM), poblano peppers, red peppers, rice starch, Salvia hispanica, sea salt, seaweed (Wakame, Undaria spp), spices (dried), sweet potato starch, turkish bay leaves, whey protein concentrates, whey protein isolate, and yeast. The following substances were petitioned for use in organic products as colors only: Annatto extract, beet juice, beta carotene, black currant juice, blueberry juice, carrot juice (orange), carrot juice (purple/black), cherry juice, chokeberry-aronia juice, elderberry juice, grape juice, grape skin extract, hibiscus juice, lycopene, paprika, pumpkin juice, purple potato juice, red cabbage extract, red radish extract, saffron, tomato juice extract, and turmeric.

Additionally, the Handling Committee will begin their sunset review of National List material exemptions on § 205.605(a) which are Agar-agar and Tartaric acid, due to expire on November 3, 2008, and Animal enzymes, Calcium sulfate, and Glucono delta-lactone, with their respective annotations and limitations, due to expire on November 4, 2008. The Committee will also begin their sunset review of material exemptions on § 205.605(b) which are Ethylene (Allowed for postharvest ripening of tropical fruit and degreening of citrus) due to expire on November 3, 2008, and Cellulose and Potassium hydroxide, with their respective annotations and limitations, due to expire on November 4, 2008.

The Livestock Committee will present their recommendations on the development of organic aquaculture (finfish) standards, and the issue of cloning in organic agriculture.

The Compliance, Accreditation, and Certification Committee will discuss the standardization of information required on organic certificates and peer review procedures.

The Meeting is Open to the Public. The NOSB has scheduled time for public input for Tuesday, March 27, 2007, from 3:15 p.m. to 5 p.m., Wednesday, March 28, 2007, from 8 a.m. to 9:30 a.m. and 3 p.m. to 5 p.m., and Thursday, March 29, 2007, from 8 a.m. to 10:45 a.m. Individuals and organizations wishing to make oral presentations at the meeting may forward their requests by mail, facsimile, e-mail, or phone to Valerie Frances as listed in ADDRESSES above. Individuals or organizations will be given approximately 5 minutes to present their views. All persons making oral presentations are requested to provide their comments in writing. Written submissions may contain information other than that presented at the oral presentation. Anyone may submit written comments at the meeting. Persons submitting written comments are asked to provide 30 copies.

Interested persons may visit the NOSB portion of the NOP Web site at http://www.ams.usda.gov/nop to view available meeting documents prior to the meeting, or visit www.regulations.gov to submit and view comments as provided for in ADDRESSES above. Documents presented at the meeting will be posted for review on the NOP Web site approximately 6 weeks following the meeting.

Dated: March 7, 2007.
Lloyd C. Day,
Administrator, Agricultural Marketing Service.

[FR Doc. 07-1156 Filed 3-7-07; 3:12 pm]

BILLING CODE 3410-02-P